ENVIRONMENTAL PROTECTION AGENCY

40 CFR Part 52

[EPA-R05-OAR-2010-0671; FRL-9267-8]

Approval and Promulgation of Air Quality Implementation Plans; Illinois

AGENCY: Environmental Protection Agency (EPA).

ACTION: Final rule.

SUMMARY: EPA is approving a July 29, 2010, request from the State of Illinois to exempt sources of Oxides of Nitrogen (NOX) in the Illinois portions of the Chicago-Gary-Lake County, Illinois-Indiana and St. Louis, Missouri-Illinois 8-hour ozone nonattainment areas from Clean Air Act (CAA) requirements for NOX Reasonably Available Control Technology (RACT) for purposes of attaining the 1997 8-hour ozone National Ambient Air Quality Standard (NAAQS or standard). This NOX RACT waiver is based on the most recent three years of complete, quality assured ozone monitoring data, which show attainment of the 1997 8-hour ozone standard in the subject nonattainment areas and demonstrate that additional reduction of NOX emissions in these areas would not contribute to attainment of the 1997 8-hour ozone NAAQS.

DATES: This final rule is effective March 24, 2011.

ADDRESSES: EPA has established a docket for this action: Docket ID No. EPA-R05-OAR-2010-0671. All documents in the docket are listed on the http://www.regulations.gov Web site. Although listed in the index, some information is not publicly available, i.e., Confidential Business Information (CBI) or other information whose disclosure is restricted by statute. Certain other material, such as copyrighted material, is not placed on the Internet and will be publicly available only in hard copy form. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Edward Doty, Environmental Scientist, at (312) 886-6057 before visiting the Region 5 office.

FOR FURTHER INFORMATION CONTACT: Edward Doty, Environmental Scientist, Attainment Planning and Maintenance Section, Air Programs Branch (AR-18J), U.S. Environmental Protection Agency, Region 5, 77 West Jackson Boulevard, Chicago, Illinois 60604, (312) 886-6057, doty.edward@epa.gov.

SUPPLEMENTARY INFORMATION: Throughout this document whenever “we,” “us,” or “our” is used, we mean EPA. This SUPPLEMENTARY INFORMATION section is arranged as follows:

I. What is the background for this rule?

II. What comments did we receive on the proposed rule?

III. What action is EPA taking?

IV. Statutory and Executive Order Reviews

I. What is the background for this rule?

On July 18, 1997 (62 FR 38856), EPA promulgated an 8-hour ozone standard of 0.08 parts per million parts of air (ppm). EPA published a final rule designating and classifying areas under the 1997 8-hour ozone standard on April 30, 2004 (69 FR 23857). In that rulemaking, the Chicago-Gary-Lake County, Illinois-Indiana (IL-IN) and St. Louis, Missouri-Illinois (MO-IL) areas were designated as nonattainment for the 1997 8-hour ozone standard. The designations became effective on June 15, 2004.

Since the Illinois ozone nonattainment areas were classified as moderate nonattainment for ozone under subpart 2 of the CAA in the April 30, 2004, designation rulemaking, they became subject to the Oxides of Nitrogen (NOX) emission control requirements of section 182(f) of the CAA. Section 182(f) requires States with areas classified as moderate nonattainment and above to adopt and implement the same level of NOX emission controls for major stationary sources as are required for major stationary sources of Volatile Organic Compounds (VOC). Major stationary VOC sources are subject to RACT requirements. Therefore, major NOX sources are also subject to RACT requirements. Section 182(f) also provides that these NOX emission control requirements do not apply to an area (outside of a designated ozone transport region) if EPA determines that additional reductions of NOX emissions would not contribute to attainment of the ozone standard. In areas where the ozone standard is attained, as demonstrated by complete, quality-assured air quality data, without the implementation of the additional section 182(f) NOX emission controls, it is clear that additional NOX emission controls required by section 182(f) would not contribute to attainment of the ozone standard since the standard has already been attained.

On July 29, 2010, the Illinois Environmental Protection Agency (Illinois EPA) submitted a request for a waiver of the NOX RACT requirements that would apply under section 182(f) of the CAA to the Illinois portions of the Chicago-Gary-Lake County, IL-IN and St. Louis, MO-IL ozone nonattainment areas.¹ Although Illinois has adopted NOX RACT rules for the ozone nonattainment areas, the 1997 8-hour ozone standard has been attained in the two ozone nonattainment area prior to the implementation of Illinois' NOX RACT rules.

¹ The Illinois portion of the Chicago-Gary-Lake County, IL-IN 8-hour ozone nonattainment area includes Cook, DuPage, Kane, Lake, McHenry, and Will Counties, and portions of Grundy (Aux Sable and Goose Lake Townships) and Kendall (Oswego Township) Counties. The Illinois portion of the St. Louis, MO-IL 8-hour ozone nonattainment area includes Jersey, Madison, Monroe, and St. Clair Counties. These nonattainment areas are not part of a designated ozone transport region. See section 184(a) of the CAA.

On December 8, 2010 (75 FR 76332), EPA published a proposed rule reviewing Illinois' NOX control waiver request and proposing to grant this waiver under section 182(f) of the CAA. This proposed rule provides a detailed discussion of Illinois' requested NOX RACT waiver and the ozone air quality data supporting the granting of this waiver.

II. What comments did we receive on the proposed rule?

EPA received no comments on the December 8, 2010, proposed rule.

III. What action is EPA taking?

The 2007-2009 ozone data for the Chicago-Gary-Lake County, IL-IN and St. Louis, MO-IL 8-hour ozone nonattainment areas show attainment of the 1997 8-hour ozone standard. Based on this conclusion, we are approving Illinois' request for a waiver from the NOX RACT requirements of the CAA in the Illinois portions of the Chicago-Gary-Lake County, IL-IN and St. Louis, MO-IL 8-hour ozone nonattainment areas.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law and the CAA. For that reason, this action:

• Is not “significant regulatory actions” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and,

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 25, 2011. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen oxides, Ozone, Volatile organic compounds.

Dated: February 9, 2011.
Susan Hedman,
Regional Administrator, Region 5.

40 CFR part 52 is amended as follows:

PART 52—[AMENDED]

1. The authority citation for part 52 continues to read as follows:

Authority: 42 U.S.C. 7401 et seq.

Subpart O—Illinois

2. Section 52.726 is amended by adding paragraph (ii) to read as follows:

§ 52.726 Control strategy: Ozone.

* * * * *

(ii) Approval. EPA is approving a July 29, 2010, request from the State of Illinois for a waiver from the Clean Air Act requirement for Oxides of Nitrogen (NOx) Reasonably Available Control Technology (RACT) in the Illinois portions of the Chicago-Gary-Lake County, Illinois-Indiana (Cook, DuPage, Kane, Lake, McHenry, and Will Counties, and portions of Grundy (Aux Sable and Goose Lake Townships) and Kendall (Oswego Township) Counties in Illinois) and St. Louis, Missouri-Illinois (Jersey, Madison, Monroe, and St. Clair Counties in Illinois) 1997 8-hour ozone nonattainment areas.

[FR Doc. 2011-3612 Filed 2-18-11; 8:45 am]

BILLING CODE 6560-50-P